DEPARTMENT OF COMMERCE

National Oceanic and Atmospheric Administration

RIN: 0648-XZ42

Fisheries of the South Atlantic and Gulf of Mexico; Southeast Data, Assessment and Review (SEDAR); South Atlantic Fishery Management Council (SAFMC) Scientific and Statistical Committee (SSC); Gulf of Mexico Fishery Management Council (GMFMC) Scientific and Statistical Committee; Public Meetings

AGENCY: National Marine Fisheries Service (NMFS), National Oceanic and Atmospheric Administration (NOAA), Commerce.

ACTION: Notice of SEDAR spiny lobster update assessment review.

SUMMARY: SEDAR will hold a meeting of the spiny lobster update assessment review panel. The meeting will be held in Key West, FL. See SUPPLEMENTARY INFORMATION.

DATES: The meeting will be held November 18-19, 2010. See SUPPLEMENTARY INFORMATION.

ADDRESSES: The meeting will be held at the Key West Marriott, 3841 N. Roosevelt Blvd., Key West, FL 33040; telephone: (800) 546-0885.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR update assessments add additional years of information to benchmark assessment models developed and approved previously. SEDAR Update assessments are developed through a workshop and webinar process including representatives from State and Federal Agencies, Council SSCs and Advisory Panels, NGO's, and fishery constituents. Update assessments are reviewed by Council SSCs.

Representatives of the GMFMC and SAFMC SSCs are conducting this review of the updated spiny lobster assessment. They will develop stock status and fishing level recommendations that will be provided to each Council's SSC for consideration.

Spiny Lobster Update Review Schedule:

November 18, 2010: 9 a.m. - 6 p.m.

November 19, 2010: 8 a.m. - 12 p.m.

The established daily times may be adjusted as necessary to accommodate the timely completion of discussion relevant to the assessment process. Such adjustments may result in the meeting being extended from, or completed prior to, the time established by this notice.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see FOR FURTHER INFORMATION CONTACT) at least 10 business days prior to each workshop.

Dated: September 30, 2010.
Tracey L. Thompson,
Acting Director, Office of Sustainable Fisheries, National Marine Fisheries Service.

[FR Doc. 2010-25056 Filed 10-5-10; 8:45 am]

BILLING CODE 3510-22-S